DEPARTMENT OF ENERGY

Office of Fossil Energy; National Coal Council

AGENCY: Department of Energy.

ACTION: Notice of open meeting.

SUMMARY: This notice announces a meeting of the National Coal Council (NCC). Federal Advisory Committee Act (Pub. L. 92-463, 86 Stats.770) requires notice of these meetings be announced in the Federal Register.

DATES: Wednesday, November 14, 2007.

ADDRESSES: Hilton Washington Embassy Row, 2015 Massachusetts Avenue, Washington, DC.

FOR FURTHER INFORMATION CONTACT: Robert Kane, Phone: (202) 586-4753, U.S. Department of Energy, Office of Fossil Energy, Washington, DC 20585.

SUPPLEMENTARY INFORMATION: Purpose of the Committee: The purpose of the National Coal Council is to provide advice, information, and recommendation to the Secretary of Energy on matters related to coal and coal industry issues. The purpose of this meeting is to recognize the important contributions that the NCC has made to the Department and other Federal agencies over the past years.

Tentative Agenda:

• Call to order by Ms. Georgia Nelson, Chair.

• Remarks of Secretary of Energy, Samuel W. Bodman (invited).

• Remarks by Department of Commerce Representative.

• Presentation of guest speaker—Alex Fassbender, Chief Technology Officer & Executive Vice President, ThermoEnergy Coporation—Presentation on the development and commercial of the TIPS oxy-fuel process.

• Presentation of guest speaker—Mike DeLallo, Director/Business Development, WorleyParsons—Presentation on a sustainable model for construction and operation of coal-based electricity generation plant which will include financial, social and environmental planning.

• Council Business.

Communication Committee Report.

Finance Committee Report.

Study Group Report.

• Other Business.

• Adjourn.

Public Participation: The meeting is open to the public. The Chairman of the NCC will conduct the meeting to facilitate the orderly conduct of business. If you would like to file a written statement with the Committee, you may do so before or after the meeting. If you would like to make oral statements regarding any of the items on the agenda, you should contact Robert Kane at the address or telephone number listed above. You must make your request for an oral statement at least five business days prior to the meeting, and reasonable provisions will be made to include the presentation on the agenda. Public comment will follow the 10 minute rule.

Transcripts: The transcript will be available for public review and copying within 30 days at the Freedom of Information Public Reading Room, 1E-190, Forrestal Building, 1000 Independence Avenue, SW., Washington, DC, between 9 a.m. and 4 p.m., Monday through Friday, except Federal holidays.

Issued in Washington, DC on October 15, 2007.
Rachel Samuel,
Deputy Committee Management Officer.

[FR Doc. E7-20665 Filed 10-18-07; 8:45 am]

BILLING CODE 6450-01-P